ENVIRONMENTAL PROTECTION AGENCY

[FRL-7773-4]

EPA Board of Scientific Counselors; Notice of Charter Renewal

AGENCY: Environmental Protection Agency (EPA).

ACTION: Notice of charter renewal.

The Charter for the Environmental Protection Agency's (EPA) Board of Scientific Counselors (BOSC) will be renewed for an additional two-year period, as a necessary committee which is in the public interest, in accordance with the provisions of the Federal Advisory Committee Act (FACA), 5 U.S.C. app. 2 section 9(c). The purpose of the BOSC is to counsel the Assistant Administrator for Research and Development (AA/ORD) on the operation of ORD's research program. EPA has determined that the functioning of the BOSC is in the public interest in connection with the performance of duties imposed on the Agency by law. Inquiries may be directed to Ms. Lorelei Kowalski, Designated Federal Officer, BOSC, U.S. EPA, Office of Research and Development (mail code 8104-R), 1200 Pennsylvania Avenue, NW., Washington, DC 20460, Telephone (202) 564-3408 or kowalski.lorelei@epa.gov.

Dated: June 2, 2004.
J. Paul Gilman,
Assistant Administrator for Research and Development.

[FR Doc. 04-13567 Filed 6-15-04; 8:45 am]

BILLING CODE 6560-50-P